ENVIRONMENTAL PROTECTION AGENCY

40 CFR Part 180

[EPA-HQ-OPP-2020-0053; FRL-10006-54]

Receipt of a Pesticide Petition Filed for Residues of Pesticide Chemicals in or on Various Commodities (February 2020)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before May 15, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as i prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing receipt of a pesticide petition filed under section 408 of the Federal Food, Drug, and Cosmetic Act (FFDCA), 21 U.S.C. 346a, requesting the establishment or modification of regulations in 40 CFR [part 174 and/or part 180] for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

Amended Tolerances for Non-Inerts

1. PP 9E8790. (EPA-HQ-OPP-2019-0651). Interregional Research Project Number 4 (IR-4), Rutgers, The State University of New Jersey, 500 College Road East, Suite 201W, Princeton, NJ 08540 requests to amend 40 CFR 180.418 by removing the established tolerances for residues of zeta-cypermethrin (S-cyano(3-phenoxyphenyl) methyl (±))(cis-trans 3-(2,2-dichloroethenyl)-2,2 dimethylcyclopropanecarboxylate), including its metabolites and degradates, measuring only total cypermethrin, cyano(3-phenoxyphenyl)methyl 3-(2,2-dichloroethenyl)-2,2-dimethylcyclopropane carboxylate, in or on the following raw agricultural commodities: Berry group 13 at 0.8 parts per million (ppm); Borage, seed at 0.2 ppm; Brassica, head and stem, subgroup 5A at 2.00 ppm; Brassica, leafy greens, subgroup 5B at 14.00 ppm; Cabbage at 2.00 ppm; Castor oil plant, seed at 0.2 ppm; Chinese tallowtree, seed at 0.2 ppm; Cilantro, leaves at 10 ppm; Cotton, undelinted seed at 0.5 ppm; Crambe, seed at 0.2 ppm; Cuphea, seed at 0.2 ppm; Echium, seed at 0.2 ppm; Euphorbia, seed at 0.2 ppm; Evening primrose, seed at 0.2 ppm; Flax, seed at 0.2 ppm; Fruit, citrus, group 10 at 0.35 ppm; Fruit, pome, group 11 at 2 ppm; Fruit, stone, group 12 at 1 ppm; Gold of pleasure, seed at 0.2 ppm; Grape at 2 ppm; Hare's-ear mustard, seed at 0.2 ppm; Jojoba, seed at 0.2 ppm; Lesquerella, seed at 0.2 ppm; Lunaria, seed at 0.2 ppm; Meadowfoam, seed at 0.2 ppm; Milkweed, seed at 0.2 ppm; Mustard, seed at 0.2 ppm; Niger, seed at 0.2 ppm; Nut, tree, group 14 at 0.05 ppm; Oil radish, seed at 0.2 ppm; Okra at 0.2 ppm; Onion, bulb at 0.10 ppm; Onion, green at 3.00 ppm; Pea and bean, dried shelled, except soybean subgroup 6C at 0.05 ppm; Pea and bean, succulent shelled, subgroup 6B at 0.1 ppm; Pecan at 0.05 ppm; Pistachio at 0.05 ppm; Poppy, seed at 0.2 ppm; Rapeseed at 0.2 ppm; Rose hip, seed at 0.2 ppm; Safflower, seed at 0.2 ppm; Sesame, seed at 0.2 ppm; Stokes aster, seed at 0.2 ppm; Sunflower, seed at 0.2 ppm; Sweet rocket, seed at 0.2 ppm; Tallowwood, seed at 0.2 ppm; Tea oil plant, seed at 0.2 ppm; Turnip, greens at 14 ppm; Vegetable, fruiting, group 8 at 0.2 ppm; Vegetable, leafy, except brassica, group 4 at 10.00 ppm; Vegetable, legume, edible podded, subgroup 6A at 0.5 ppm; Vernonia, seed at 0.2 ppm. Contact: RD.

2. PP 9E8812. (EPA-HQ-OPP-2020-0054). Interregional Research Project Number 4 (IR-4), Rutgers, The State University of New Jersey, 500 College Road East, Suite 201W, Princeton, NJ 08540 requests to amend 40 CFR 180.242 by removing the established tolerances for residues of thiabendazole (2-(4-thiazolyl)benzimidazole), including its metabolites and degradates, in or on the following raw agricultural commodities: Potato, postharvest at 10.0 parts per million (ppm); Sweet potato (postharvest to sweet potato intended only for use as seed) at 0.05 ppm; Alfalfa, forage at 0.02 ppm; Alfalfa, hay at 0.02 ppm; Radish, tops at 0.02 ppm; Brassica, head and stem, subgroup 5A at 0.02 ppm; Fruit, citrus, group 10, postharvest at 10.0 ppm; Fruit, pome, group 11, postharvest at 5.0 ppm; Vegetable, root (except sugarbeet), subgroup 1B at 0.02 ppm; Carrot, roots, postharvest at 10.0 ppm; and in paragraph (b) Sweet potato at 10 ppm. Contact: RD.

3. PP 9F8810. (EPA-HQ-OPP-2020-0064). Syngenta Crop Protection, LLC 410 Swing Road, Greensboro, NC 27409, requests to amend the tolerance in 40 CFR 180.505 for residues of the insecticide, emamectin benzoate, 4'-epi-methylamino- 4'-deoxyavermectin B1 benzoate (a mixture of a minimum of 90% 4'-epi-methylamino-4'- deoxyavermectin B1a and a maximum of 10% 4'-epi-methlyamino-4'deoxyavermectin B1b benzoate), and its metabolites 8,9 isomer of the B1a and B1b component of the parent insecticide in or on the raw agricultural commodity tea leaves at 0.2 parts per million (ppm). HPLC/FLD Method 244-92-3 is used to measure and evaluate the chemical parent compound and its delta 8,9- photoisomer. Contact: RD.

New Tolerance Exemptions for Inerts (Except PIPs)

PP IN-11305. (EPA-HQ-OPP-2019-0570). Stepan Company, c/o Spring Trading Company, 203 Dogwood Trail, Magnolia, TX 77354, requests to establish an exemption from the requirement of a tolerance for residues of N,N-dimethyl-9-dodecenamaide (CAS Reg. No. 1374570-57-6), when used as an inert ingredient in pesticide formulations under 40 CFR 180.910. The petitioner believes no analytical method is needed because it is not required for an exemption from the requirement of a tolerance. Contact: RD.

New Tolerance Exemptions for PIPs

PP 9F8785. (EPA-HQ-OPP-2019-0627). Pioneer Hi-Bred International, Inc. (Pioneer), 7100 NW 62nd Avenue, P.O. Box 1000, Johnston, Iowa, 50131, requests to establish an exemption from the requirement of a tolerance in 40 CFR part 174 for residues of the plant-incorporated protectant (PIP) Pseudomonas chlororaphis IPD072Aa protein in or on maize. The petitioner believes no analytical method is needed because an exemption from the requirement of a tolerance without numerical limitation is requested for IPD072Aa protein as expressed in maize, this section of the petition is not applicable. Contact: BPPD.

New Tolerances for Non-Inerts

1. PP 9E8790. (EPA-HQ-OPP-2019-0651). Interregional Research Project Number 4 (IR-4), Rutgers, The State University of New Jersey, 500 College Road East, Suite 201W, Princeton, NJ 08540 requesting, pursuant to section 408(d) of the Federal Food, Drug, and Cosmetic Act (FFDCA), 21 U.S.C. 346a(d), to amend 40 CFR part 180.418 by establishing tolerances for residues of zeta-cypermethrin (S-cyano(3-phenoxyphenyl) methyl (±))(cis-trans 3-(2,2-dichloroethenyl)-2,2 dimethylcyclopropanecarboxylate), including its metabolites and degradates, measuring only total cypermethrin, cyano(3-phenoxyphenyl)methyl 3-(2,2-dichloroethenyl)-2,2-dimethylcyclopropane carboxylate, in or on the following raw agricultural commodities Basil, fresh leaves at 7 parts per million (ppm); Basil, dried leaves at 40 ppm, Onion, bulb, subgroup 3-07A at 0.1 ppm; Onion, green, subgroup 3-07B at 3 ppm; Leafy greens subgroup 4-16A at 10 ppm; Leaf petiole vegetable subgroup 22B at 10 ppm; Brassica, leafy greens, subgroup 4-16B at 14 ppm; Vegetable, brassica, head and stem, group 5-16 at 2 ppm; Vegetable, fruiting, group 8-10 at 0.2 ppm; Fruit, citrus, group 10-10 at 0.35 ppm; Fruit, pome, group 11-10 at 2 ppm; Fruit, stone, group 12-12 at 2 ppm; Caneberry subgroup 13-07A at 0.8 ppm; Bushberry subgroup 13-07B at 0.8 ppm; Fruit, small, vine climbing, except fuzzy kiwifruit, subgroup 13-07F at 2 ppm; Nut, tree, group 14-12 at 0.05 ppm; Rapeseed subgroup 20A at 0.2 ppm; Sunflower subgroup 20B at 0.2 ppm; Cottonseed subgroup 20C at 0.5 ppm; Kohlrabi at 2 ppm; Celtuce at 10 ppm; Fennel, Florence, fresh leaves and stalk at 10 ppm; Quinoa, grain at 3 ppm; Quinoa, hay at 6 ppm; Quinoa, straw at 20 ppm; Teff, forage at 3 ppm; Teff, grain at 0.2 ppm; Teff, hay at 6 ppm; Teff, straw at 7 ppm; individual crops of proposed Crop Subgroup 6-18A: Edible podded bean legume vegetable subgroup at 0.7 ppm including French bean, edible podded; Garden bean, edible podded; Green bean, edible podded; Scarlet runner bean, edible podded; Snap bean, edible podded; Kidney bean, edible podded; Navy bean, edible podded; Wax bean, edible podded; Asparagus bean, edible podded; Catjang bean, edible podded; Chinese longbean, edible podded; Cowpea, edible podded; Moth bean, edible podded; Mung bean, edible podded; Rice bean, edible podded; Urd bean, edible podded; Yardlong bean, edible podded; Goa bean, edible podded; Guar bean, edible podded; Jackbean, edible podded; Lablab bean, edible podded; Vegetable soybean, edible podded; Sword bean, edible podded; Winged pea, edible podded; Velvet bean, edible podded; individual crops of proposed Crop Subgroup 6-18B: Edible podded pea legume vegetable subgroup at 0.7 ppm including Dwarf pea, edible podded; Edible podded pea, edible podded; Green pea, edible podded; Snap pea, edible podded; Snow pea, edible podded; Sugar snap pea, edible podded; Grass-pea, edible podded; Lentil, edible podded; Pigeon pea, edible podded; Chickpea, edible podded; individual crops of proposed crop subgroup 6-18C: Succulent shelled bean subgroup at 0.7 ppm including Lima bean, succulent shelled; Scarlet runner bean, succulent shelled; Wax bean, succulent shelled; Blackeyed pea, succulent shelled; Moth bean, succulent shelled; Catjang bean, succulent shelled; Cowpea, succulent shelled; Crowder pea, succulent shelled; Southern pea, succulent shelled; Andean lupin, succulent shelled; Blue lupin, succulent shelled; Grain lupin, succulent shelled; Sweet lupin, succulent shelled; White lupin, succulent shelled; White sweet lupin, succulent shelled; Yellow lupin, succulent shelled; Broad bean, succulent shelled; Jackbean, succulent shelled; Goa bean, succulent shelled; Lablab bean, succulent shelled; Vegetable soybean, succulent shelled; Velvet bean, succulent shelled; individual crops of proposed Crop Subgroup 6-18D: Succulent shelled pea subgroup at 0.7 ppm including Chickpea, succulent shelled; English pea, succulent shelled; Garden pea, succulent shelled; Green pea, succulent shelled; Pigeon pea, succulent shelled; Lentil, succulent shelled; individual crops of proposed Crop Subgroup 6-18E: Dried shelled bean, except soybean subgroup at 0.05 ppm including African yam-bean, dry seed; American potato bean, dry seed; Andean lupin bean, dry seed; Blue lupin bean, dry seed; Grain lupin bean, dry seed; Sweet lupin bean, dry seed; White lupin bean, dry seed; White sweet lupin bean, dry seed; Yellow lupin bean, dry seed; Black bean, dry seed; Cranberry bean, dry seed; Dry bean, dry seed; Field bean, dry seed; French bean, dry seed; Garden bean, dry seed; Great northern bean, dry seed; Green bean, dry seed; Kidney bean, dry seed; Lima bean, dry seed; Navy bean, dry seed; Pink bean, dry seed; Pinto bean, dry seed; Red bean, dry seed; Scarlet runner bean, dry seed; Tepary bean, dry seed; Yellow bean, dry seed; Adzuki bean, dry seed; Blackeyed pea, dry seed; Asparagus bean, dry seed; Catjang bean, dry seed; Chinese longbean, dry seed; Cowpea, dry seed; Crowder pea, dry seed; Mung bean, dry seed; Moth bean, dry seed; Rice bean, dry seed; Southern pea, dry seed; Urd bean, dry seed; Yardlong bean, dry seed; Broad bean, dry seed; Guar bean, dry seed; Goa bean, dry seed; Horse gram, dry seed; Jackbean, dry seed; Lablab bean, dry seed; Morama bean, dry seed; Sword bean, dry seed; Winged pea, dry seed; Velvet bean, seed, dry seed; Vegetable soybean, dry seed; individual crops of proposed Crop Subgroup 6-18F: Dried shelled pea subgroup at 0.05 ppm including Field pea, dry seed; Dry pea, dry seed; Green pea, dry seed; Garden pea, dry seed; Chickpea, dry seed; Lentil, dry seed; Grass-pea, dry seed; Pigeon pea, dry seed. There is a practical analytical method for detecting and measuring levels of zeta-cypermethrin in or on food with a limit of detection that allows monitoring of food with residues at or above the levels set in these tolerances (Gas Chromatography with Electron Capture Detection (GC/ECD). Contact: RD.

2. PP 9E8794. (EPA-HQ-OPP-2019-0641). Interregional Research Project Number 4 (IR-4), Rutgers, The State University of New Jersey, 500 College Road East, Suite 201W, Princeton, NJ 08540 requesting, pursuant to section 408(d) of the Federal Food, Drug, and Cosmetic Act (FFDCA), 21 U.S.C. 346a(d), to amend 40 CFR part 180.431 by establishing the tolerances for residues of the herbicide clopyralid (3,6-dichloro-2-pyridinecarboxylic acid in or on the raw agricultural commodities Onion, bulb, subgroup 3-07A at 0.4 parts per million (ppm); Caneberry subgroup 13-07A at 0.1 ppm; Wheatgrass, intermediate, bran at 12 ppm; Wheatgrass, intermediate, forage at 9 ppm; Wheatgrass, intermediate, germ at 12 ppm; Wheatgrass, intermediate, grain at 3 ppm; Wheatgrass, intermediate, middling at 12 ppm; Wheatgrass, intermediate, shorts at 12 ppm; Wheatgrass, intermediate, straw at 9 ppm. EPA has determined adequate analytical methods are available for enforcement purposes for clopyralid in plant and animal matrices. Contact: RD.

3. PP 9E8797. (EPA-HQ-OPP-2019-0639). Interregional Research Project Number 4 (IR-4), Rutgers, The State University of New Jersey, 500 College Road East, Suite 201W, Princeton, NJ 08540 requesting, pursuant to section 408(d) of the Federal Food, Drug, and Cosmetic Act (FFDCA), 21 U.S.C. 346a(d), to amend 40 CFR part 180.339 by establishing tolerances for residues of the herbicide MCPA ((4-chloro-2-methylphenoxy)acetic acid), both free and conjugated, resulting from the direct application of MCPA or its sodium or dimethylamine salts, or its 2-ethylhexyl ester in or on the following agricultural commodities: Wheatgrass, intermediate, forage at 20 parts per million (ppm); Wheatgrass, intermediate, grain at 1 ppm; Wheatgrass, intermediate, hay at 115 ppm; Wheatgrass, intermediate, straw at 25 ppm; and an import tolerance for Tea, plucked leaves at 0.3 ppm. For enforcement of tolerances for residues of MCPA, an enforcement analytical method designated as PAM Vol. II have been submitted and are deemed adequate for the enforcement of MCPA on plants and livestock commodities. Contact: RD.

4. PP 9E8806. (EPA-HQ-OPP-2020-0066). Interregional Research Project Number 4 (IR-4), Rutgers, The State University of New Jersey, 500 College Road East, Suite 201W, Princeton, NJ 08540 requesting, pursuant to section 408(d) of the Federal Food, Drug, and Cosmetic Act (FFDCA), 21 U.S.C. 346a(d), to amend 40 CFR part 180 by establishing tolerances for residues of benzovindiflupyr (N-[9-(dichloromethylene)-1,2,3,4-tetrahydro-1,4-methanonaphthalen-5-yl]-3-(difluoromethyl)-1-methyl-1H-pyrazole-4-carboxamide) in or on the raw agricultural commodities Blueberry, lowbush at 2 parts per million (ppm) and Ginseng at 0.3 ppm. Method GRM042.03A and GRM042.04A for plant products have been developed to determine parent SYN545192 and its metabolite SYN546039 (and conjugates) with a limit of quantification (LOQ) of 0.01 mg/kg for both analytes. Contact: RD.

5. PP 9E8812. (EPA-HQ-OPP-2020-0054). Interregional Research Project Number 4 (IR-4), Rutgers, The State University of New Jersey, 500 College Road East, Suite 201W, Princeton, NJ 08540 requesting, pursuant to section 408(d) of the Federal Food, Drug, and Cosmetic Act (FFDCA), 21 U.S.C. 346a(d), to amend 40 CFR part 180.242 by establishing tolerances for residues of thiabendazole (2-(4-thiazolyl)benzimidazole), including its metabolites and degradates, in or on the following raw agricultural commodities: Vegetable, tuberous and corm, subgroup 1C, except sweet potato at 10 parts per million (ppm), Sweet potato, tuber at 2 ppm; Brassica, leafy greens, subgroup 4-16B at 0.01 ppm; Animal feed, nongrass, group 18 at 0.01 ppm; Vegetable, Brassica, head and stem, group 5-16 at 0.01 ppm; Fruit, citrus, group 10-10 at 10 ppm, Fruit, pome, group 11-10 at 5 ppm, Vegetable, root, except sugar beet, subgroup 1B, except carrot at 0.01 ppm and Carrot, roots at 10 ppm. The Pesticide Analytical Manual (PAM) Vol. II lists four spectrophotofluorometric methods (Methods I, A, B and C) for determining residues of thiabendazole per se in or on plant commodities, and one spectrophotofluorometric method (Method D) for determining residues of thiabendazole and 5-hydroxythiabendazole in milk. Contact: RD.

6. PP 8F8725. (EPA-HQ-OPP-2020-0045). Bayer CropScience, 800 N. Lindbergh Blvd. St. Louis, MO 63167, requests to establish a tolerance in 40 CFR part 180 for residues of the herbicide indaziflam in or on crop group 17 (Grass Forage, Fodder, and Hay Group) grass forage at 30 parts per million (ppm) and grass hay at 10 ppm; in sugarcane, cane at 0.01 ppm; and for animal fat, meat, meat by-products, milk, and milk fat at: 0.07, 0.01, 0.2, 0.01, and 0.25 ppm respectively. The high pressure liquid chromatography/triple stage quadrupole mass spectrometry (LC/MS/MS) method is used to measure and evaluate the chemical indaziflam. Contact: RD.

7. PP 9F8795. (EPA-HQ-OPP-2020-0065). E.I. du Pont de Nemours & Company (“DuPont”), Chestnut Run Plaza, 974 Centre Road, Wilmington, DE 19805, requests to establish a tolerance in 40 CFR part 180 for residues of the nematicide, fluazaindolizine in or on Carrots at 15 ppm; Cucurbit Vegetables (Crop Group 9) at 3 ppm; Fruiting Vegetables (Crop Group 8-10) at 3 parts per million (ppm); Sun dried tomatoes at 30 ppm; Tomato paste at 15 ppm; Tomato puree at 6 ppm; Tomato wet pomace at 6 ppm; Tuberous and Corm Vegetables (Crop Subgroup 1C) at 9 ppm; Dried potato at 30 ppm; Potato process waste at 40 ppm; and establishing tolerances for residues of fluazaindolizine plus its metabolites IN-QEKPEQ and IN-F4106PEQ, in the animal commodities: Cattle, whole milk at 0.5 ppm; Cattle, fat at 0.09 ppm; Cattle, muscle at 0.02 ppm; Cattle, liver at 0.2 ppm; Cattle, kidney at 0.5 ppm; Goat, whole milk at 0.5 ppm; Goat, fat at 0.09 ppm; Goat, muscle at 0.02 ppm; Goat, liver at 0.2 ppm; Goat, kidney at 0.5 ppm; Hog, whole milk at 0.5 ppm; Hog, fat at 0.09 ppm; Hog, muscle at 0.02 ppm; Hog, liver at 0.2 ppm; Hog, kidney at 0.5 ppm; Horse, whole milk at 0.5 ppm; Horse, fat at 0.09 ppm; Horse, muscle at 0.02 ppm; Horse, liver at 0.2 ppm; Horse, kidney at 0.5 ppm; Sheep, whole milk at 0.5 ppm; Sheep, fat at 0.09 ppm; Sheep, muscle at 0.02 ppm; Sheep, liver at 0.2 ppm; Sheep, kidney at 0.5 ppm. In addition, DuPont is proposing pursuant to section 408(d) of the Federal Food, Drug and cosmetic Act, 21 U.S.C. 346a(d), to amend 40 CFR part 180 to establish indirect or inadvertent tolerances for residues of fluazaindolizine, including its metabolites and their conjugates, expressed as the stoichiometric equivalent of fluazaindolizine, in or on the following commodities: Brassica Head and Stem Vegetables (Crop Group 5-16) at 0.5 ppm; Bulb Vegetables (Crop Group 3-07) at 3 ppm; Cereal Grains (Crop Group 15) at 3 ppm; Corn milled by-products at 6 ppm; Foliage of Legume Vegetables (Crop Group 7), Vines at 8 ppm; Foliage of Legume Vegetables (Crop Group 7), Forage and Straw at 5 ppm; Foliage of Legume Vegetables (Crop Group 7), Hay at 40 ppm; Forage, Fodder and Straw of Cereal Grains (Crop Group 16), Fodder at 4 ppm; Forage, Fodder and Straw of Cereal Grains (Crop Group 16), Forage at 8 ppm; Forage, Fodder and Straw of Cereal Grains (Crop Group 16), Hay at 15 ppm; Forage, Fodder and Straw of Cereal Grains (Crop Group 16), Straw at 10 ppm; Fruiting Vegetables (Crop Group 8-10) at 1 ppm; Grain, Aspirated Fractions at 0.5 ppm; Grass, Forage, Fodder and Hay (Crop Group 17), Forage at 8 ppm; Grass, Forage, Fodder and Hay (Crop Group 17), Hay at 15 ppm; Leafy Vegetables (Crop Group 4-16) at 9 ppm; Leaves of Root and Tuber (Crop Group 2) at 15 ppm; Legume Vegetables (Crop Group 6), Mature Seed at 9 ppm; Legume Vegetables (Crop Group 6), Immature Seed and Pod at 3 ppm; Low Growing Berry (Crop Subgroup 13-07G) at 0.6 ppm; Nongrass animal Feeds (Forage, Fodder, Straw and Hay) (Crop Group 18), Fodder at 5 ppm; Nongrass Animal Feeds (Forage, Fodder, Straw and Hay) (Crop Group 18), Forage at 8 ppm; Nongrass Animal Feeds (Forage, Fodder, Straw and Hay) (Crop Group 18), Hay at 15 ppm; Nongrass Animal Feeds (Forage, Fodder, Straw and Hay) (Crop Group 18), Straw at 10 ppm; Oilseed (Crop Group 20) at 9 ppm; Oilseed (Crop Group 20), Forage and Straw at 5 ppm; Root Vegetables (Crop Subgroup 1A) at 7 ppm; Root Vegetables Except Sugar Beet (Crop Subgroup 1B) at 7 ppm; Soybean Hulls at 20 ppm; Soybean Meal at 20 ppm; Stalk, Stem and Leaf Petiole Vegetables (Crop Group 22) at 3 ppm; Strawberry, Dehydrated at 3 ppm; Wheat Milled By-Products at 6 ppm. The LC/MS/MS system operating with an electrospray interface (ESI) operating in both positive and negative polarities is used to measure and evaluate the chemical fluazaindolizine. Contact: RD.

8. PP 9F8796. EPA-HQ-OPP-2020-0068. BASF Corporation, 26 Davis Drive, P.O. Box 13528, Research Triangle Park, North Carolina 27709-3528, requests to establish tolerance in 40 CFR part 180 for residues of the fungicide mefentrifluconazole (BAS 750 F); 2-[4-(4-chlorophenoxy)-2-(trifluoromethyl)phenyl]-1-(1H-1,2,4-triazole-1-yl)propan-2-ol] in or on the raw agricultural commodities berry, low growing, subgroup 13-07G at 2 parts per million (ppm); bushberry, subgroup 13-07B at 5 ppm; caneberry, subgroup 13-07A at 3 ppm; cattle, fat at 0.8 ppm; cattle, kidney at 0.6 ppm; cattle, liver at 1.5 ppm; cattle, meat at 0.07 ppm; cattle, meat byproducts at 1.5 ppm; cotton, gin byproducts at 10 ppm; cottonseed subgroup 20C at 0.2 ppm; egg at 0.01 ppm; goat, fat at 0.8 ppm; goat, kidney at 0.6 ppm; goat, liver at 1.5 ppm, goat; meat at 0.07 ppm; goat, meat byproducts at 1.5 ppm; grass, crop group 17, forage at 50 ppm; grass, crop group 17, hay at 100 ppm; hog, fat at 0.02 ppm; hog, kidney at 0.03 ppm; hog, liver at 0.03 ppm; hog, meat at 0.01 ppm; hog, meat byproducts at 0.03 ppm; horse, fat at 0.8 ppm, horse; kidney at 0.6 ppm; horse, liver at 1.5 ppm; horse, meat at 0.07 ppm; horse, meat byproducts at 1.5 ppm; melon subgroup 9A at 0.5 ppm; milk at 0.09 ppm; milk fat at 2.4 ppm; non-grass animal feed, forage, crop group 18 at 15 ppm; non-grass animal feed, hay, crop group 18 at 40 ppm; onion, bulb, subgroup 3-07A at 0.2 ppm; onion, green, subgroup 3-07B at 4 ppm; poultry, fat at 0.015 ppm; poultry, liver at 0.01 ppm; poultry, meat at 0.015 ppm; poultry, meat byproducts at 0.015 ppm; sheep, fat at 0.8 ppm; sheep, kidney at 0.6 ppm; sheep, liver at 1.5 ppm; sheep, meat at 0.07 ppm; sheep, meat byproducts at 1.5 ppm; squash/cucumber subgroup 9B at 0.15 ppm, sugarcane, cane at 1.5 ppm; sunflower subgroup 20B at 0.15 ppm; tomato, dried at 5 ppm; vegetable, leafy, except brassica, crop group 4-16 at 30 ppm; vegetables, fruiting, crop group 8-10 at 0.9 ppm; vegetable, leaves of root and tuber, crop group 2 at 20 ppm; and vegetable, root, except sugar beet, subgroup 1B at 0.7 ppm. The independently validated method (L0295/01, based on the QuEChERS method) was used for analyzing residues of BAS 750 F with appropriate sensitivity and selectivity in all crops and processed commodities. Two independently validated methods (L0272/01 and L0309/01) have been submitted for analyzing residues of BAS 750 F and its metabolite M750F022 (and conjugates) in animal commodities with appropriate sensitivity and selectivity, to measure and evaluate the chemical mefentrifluconazole. Contact: RD.

9. PP 9F8799. (EPA-HQ-OPP-2020-0118) [Makhteshim Agan of North America, Inc., 3120 Highwoods Blvd., Suite 100, Raleigh, NC 27604, requests to establish a tolerance in 40 CFR part 180 for residues of the nematicide, Fluensulfone, in or on soy bean seeds at 0.1 parts per million (ppm), soybean forage at 7.0 ppm and soybean hay at 20.0 ppm. High-Performance Liquid Chromatograph-Mass Spectrometer (LC-MS/MS) is used to measure and evaluate the residues of the parent fluensulfone and residues of the metabolites, sulfonic acid in non-fatty matrices. Contact: RD.

Authority: 21 U.S.C. 346a.

Dated: March 12, 2020.
Delores Barber,
Director, Information Technology and Resources Management Division, Office of Pesticide Programs.

[FR Doc. 2020-07806 Filed 4-14-20; 8:45 am]

BILLING CODE 6560-50-P